DEPARTMENT OF HEALTH AND HUMAN SERVICES

National Institutes of Health

Center for Scientific Review; Cancellation of Meeting

Notice is hereby given of the cancellation of the Center for Scientific Review Special Emphasis Panel, July 7, 2005, 8 a.m. to July 7, 2005, 2 p.m., The River Inn, 924 25th Street, NW., Washington, DC 20037 which was published in the Federal Register on June 22, 2005, 70 FR 36197-36198.

The meeting is cancelled due to the reassignment of the applications.

Dated: June 28, 2005.
LaVerne Y. Stringfield,
Director, Office of Federal Advisory Committee Policy.

[FR Doc. 05-13456 Filed 7-7-05; 8:45 am]

BILLING CODE 4140-01-M